ENVIRONMENTAL PROTECTION AGENCY

[EPA-HQ-ORD-2014-0850; FRL-9919-81-ORD]

Regional Monitoring Networks To Detect Climate Change Effects in Stream Ecosystems

AGENCY: Environmental Protection Agency (EPA).

ACTION: Notice of public comment period and letter peer review.

SUMMARY: EPA is announcing a 30-day public comment period for the draft document titled, “Regional Monitoring Networks to Detect Climate Change Effects in Stream Ecosystems” (EPA/600/R-14/341). The document was prepared by the National Center for Environmental Assessment within EPA's Office of Research and Development. The document describes the development of the current regional monitoring networks (RMNs) for small, freshwater wadeable streams.

EPA intends to forward the public comments that are submitted in accordance with this document to the external peer reviewers for their consideration during the letter review. When finalizing the draft document, EPA intends to consider any public comments received in accordance with this document. EPA is releasing this draft document solely for the purposes of public comment and in connection with pre-dissemination peer review. This draft document is not final as described in EPA's information quality guidelines, has not been publicly disseminated by the EPA, and does not represent and should not be construed to represent Agency policy or views.

The draft document is available via the Internet on the NCEA home page under the Recent Additions and the Data and Publications menus at http://www.epa.gov/ncea.

DATES: The 30-day public comment period begins November 28, 2014, and ends December 29, 2014. Comments should be in writing and must be received by EPA by December 29, 2014.

ADDRESSES: The draft document, “Regional Monitoring Networks to Detect Climate Change Effects in Stream Ecosystems,” is available primarily via the Internet on the National Center for Environmental Assessment's home page under the Recent Additions and the Data and Publications menus at http://www.epa.gov/ncea. A limited number of paper copies are available from the Information Management Team, NCEA; telephone: 703-347-8561; facsimile: 703-347-8691. If you are requesting a paper copy, please provide your name, mailing address, and the document title.

Comments may be submitted electronically via http://www.regulations.gov, by mail, by facsimile, or by hand delivery/courier. Please follow the detailed instructions provided in the SUPPLEMENTARY INFORMATION section of this document.

FOR FURTHER INFORMATION CONTACT: For information on the public comment period, contact the ORD Docket at the EPA Headquarters Docket Center; telephone: 202-566-1752; facsimile: 202-566-9744; or email: Docket_ORD@epa.gov.

For technical information, contact Britta Bierwagen, NCEA; telephone: 703-347-8613; facsimile: 703-347-8694; or email: bierwagen.britta@epa.gov.

SUPPLEMENTARY INFORMATION:

I. Information About the Project/Document

The U.S. Environmental Protection Agency (EPA) is working with its regional offices, states, tribes, and other organizations to establish regional monitoring networks (RMNs) at which biological, thermal, and hydrologic data will be collected from freshwater wadeable streams to quantify and monitor changes in baseline conditions, including climate change effects. RMNs have been established in the Northeast, Mid-Atlantic, and Southeast, and efforts are expanding into other regions. The need for RMNs stems from the lack of long-term, contemporaneous biological, thermal, and hydrologic data, particularly at minimally disturbed sites. Data collected at RMNs will be used to detect temporal trends; investigate relationships between biological, thermal, and hydrologic data; explore ecosystem responses and recovery from extreme weather events; test hypotheses and predictive models related to climate change; and quantify natural variability. RMN surveys build on existing bioassessment efforts, with the goal of collecting comparable data that can be pooled efficiently at a regional level. This document describes the development of the current RMNs for small, freshwater wadeable streams. It contains information on selection of candidate sites, expectations for data collection, the rationale for collecting these data, and provides examples of how the RMN data will be used and analyzed.

II. How To Submit Technical Comments to the Docket at http://www.regulations.gov

Submit your comments, identified by Docket ID No. EPA-HQ-ORD-2014-0850, by one of the following methods:

• http://www.regulations.gov: Follow the on-line instructions for submitting comments.

• Email: Docket_ORD@epa.gov.

• Fax: 202-566-9744.

• Mail: EPA Docket Center [ORD Docket] (Mail Code: 28221T), U.S. Environmental Protection Agency, 1200 Pennsylvania Avenue NW., Washington, DC 20460. The phone number is 202-566-1752. If you provide comments by mail, please submit one unbound original with pages numbered consecutively, and three copies of the comments. For attachments, provide an index, number pages consecutively with the comments, and submit an unbound original and three copies.

• Hand Delivery: The ORD Docket is located in the EPA Headquarters Docket Center, EPA West Building, Room 3334, 1301 Constitution Avenue NW., Washington, DC. The EPA Docket Center's Public Reading Room is open from 8:30 a.m. to 4:30 p.m., Monday through Friday, excluding legal holidays. The telephone number for the Public Reading Room is 202-566-1744. Deliveries are only accepted during the docket's normal hours of operation, and special arrangements should be made for deliveries of boxed information. If you provide comments by hand delivery, please submit one unbound original with pages numbered consecutively, and three copies of the comments. For attachments, provide an index, number pages consecutively with the comments, and submit an unbound original and three copies.

Instructions: Direct your comments to Docket ID No. EPA-HQ-ORD-2014-0850. Please ensure that your comments are submitted within the specified comment period. Comments received after the closing date will be marked “late,” and may only be considered if time permits. It is EPA's policy to include all comments it receives in the public docket without change and to make the comments available online at http://www.regulations.gov, including any personal information provided, unless a comment includes information claimed to be Confidential Business Information (CBI) or other information whose disclosure is restricted by statute. Do not submit information that you consider to be CBI or otherwise protected through http://www.regulations.gov or email. The http://www.regulations.gov Web site is an “anonymous access” system, which means EPA will not know your identity or contact information unless you provide it in the body of your comment. If you send an email comment directly to EPA without going through http://www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center home page at http://www.epa.gov/epahome/dockets.htm.

Docket: Documents in the docket are listed in the http://www.regulations.gov index. Although listed in the index, some information is not publicly available, e.g., CBI or other information whose disclosure is restricted by statute. Certain other materials, such as copyrighted material, are publicly available only in hard copy. Publicly available docket materials are available either electronically at http://www.regulations.gov or in hard copy at the ORD Docket in the EPA Headquarters Docket Center.

Dated: November 20, 2014.
Debra B. Walsh,
Acting Director, National Center for Environmental Assessment.

[FR Doc. 2014-28154 Filed 11-26-14; 8:45 am]

BILLING CODE 6560-50-P